Title 3—

The President

Proclamation 10942 of May 22, 2025

National Maritime Day, 2025

By the President of the United States of America

A Proclamation

More than 200 years ago, the American steamship S.S. Savannah set sail across the Atlantic, becoming the first vessel of its kind to complete the journey. That daring voyage marked the start of American maritime excellence. From that first crossing to the increasingly important shipping lanes of today, America's strength at sea has always been driven by the United States Merchant Marine and the skilled merchant mariners who support our economy and readiness in times of peace, crisis, and war.

Merchant mariners play a vital role in our national defense, standing ready to support military operations whenever they are needed. As civilian seafarers, they deliver troops, weapons, and supplies through dangerous conditions to sustain our Armed Forces in times of conflict. During World War II, more than 243,000 merchant mariners risked their lives to aid the war effort and help secure victory and freedom. Their service came at a price as these merchant mariners suffered a higher casualty rate than all branches of the United States military during the war. Their courage and heroism reflect a deep commitment to the Nation that we hold in the highest honor and shall never forget.

Beyond their role in national defense, merchant mariners help drive American economic strength. They operate the vessels that transport goods, energy, and raw materials to and from our shores, supporting global trade and connecting United States producers with international markets. Their work supports key industries across the American economy, including shipping, shipbuilding, logistics, and energy.

The United States is a proud maritime nation, and as President, I am bringing a renewed focus to reestablishing our dominance at sea. Last month, I signed an Executive Order on Restoring America's Maritime Dominance to spur investment in American shipbuilding, eliminate outdated regulations, and expand merchant mariner training and education. These reforms are critical to securing supply chains, protecting key trade routes, and countering growing threats from foreign adversaries.

Today, we celebrate the men and women of the United States Merchant Marine and all those who support our maritime industry. Their dedication upholds our national defense, fuels our economy, and continues a proud tradition that has shaped our Nation since its earliest days.

The Congress, by a joint resolution approved May 20, 1933, has designated May 22 of each year as “National Maritime Day,” to commemorate the first transoceanic voyage by a steamship, in 1819 by the S.S. Savannah. By this resolution, the Congress has authorized and requested the President to issue annually a proclamation calling for its appropriate observance.

NOW, THEREFORE, I, DONALD J. TRUMP, President of the United States of America, do hereby proclaim May 22, 2025, as National Maritime Day. I call upon the people of the United States to mark this observance and to display the flag of the United States at their homes and in their communities. I also request that all ships sailing under the American flag dress ship on that day.

IN WITNESS WHEREOF, I have hereunto set my hand this twenty-second day of May, in the year of our Lord two thousand twenty-five, and of the Independence of the United States of America the two hundred and forty-ninth.

[FR Doc. 2025-09785

Filed 5-27-25; 11:15 am]

Billing code 3395-F4-P